DEPARTMENT OF EDUCATION

Application for New Awards; Promise Neighborhoods Program; Corrections

AGENCY: Office of Elementary and Secondary Education, Department of Education.

ACTION: Notice; corrections.

SUMMARY: The Department of Education published a document in the Federal Register of January 19, 2021 regarding applications (NIA) for the fiscal year (FY) 2021 Promise Neighborhoods (PN) Program competition, Assistance Listing Number 84.215N. The Department is amending the PN NIA by removing one of the competitive preference priorities and extending the deadline for transmittal of applications to April 19, 2021 and the deadline for intergovernmental review to June 21, 2021.

FOR FURTHER INFORMATION CONTACT: Adrienne Hawkins, U.S. Department of Education, 400 Maryland Avenue SW, Room 4W220, Washington, DC 20202-6135. Telephone: (202) 453-5638. Email: Adrienne.Hawkins@ed.gov.

If you use a telecommunications device for the deaf (TDD) or a text telephone (TTY), call the Federal Relay Service (FRS), toll free, at 1-800-877-8339.

SUPPLEMENTARY INFORMATION: If an applicant has already submitted an application, program staff will send notification of the opportunity to resubmit the application at the extended date. Applicants that have already timely submitted applications under the FY 2021 PN NIA competition may resubmit applications, but are not required to do so. If a new application is not submitted, the Department will use the application that was submitted by the original deadline and will review the application without regard to any response to the competitive preference priority that we are removing. If a new application is submitted, the Department will consider the application that is last submitted and timely received.

All other requirements and conditions stated in the PN NIA remain the same.

Program Authority: 20 U.S.C. 7273-7274.

Corrections

1. In the Federal Register of January 19, 2021, in FR Doc. 2021-00907, on page 5154, in the second column, make the following corrections under the Dates caption:

(1) Following the heading “Date of Pre-Application Meetings,” revise the first sentence to read:

The Department will hold an additional pre-application meeting March 15, 2021 via webinar for prospective applicants.

(2) Following the heading “Deadline for Transmittal of Application,” remove “March 5, 2021” and add, in its place, “April 19, 2021”.

(3) Following the heading “Deadline for Intergovernmental Review,” remove “May 4, 2021” and add, in its place, “June 21, 2021”.

2. In the Federal Register of January 19, 2021, in FR Doc. 2021-00907, on page 5154, in the third column, make the following corrections under the “Priorities” heading:

(1) In the first paragraph, remove the word “four” and add, in its place, the word “three.”

(2) Revise the second paragraph to read as follows:

Absolute Priorities 1 and 3 and Competitive Preference Priorities 1 and 3 are from the notice of final priorities, requirements, definitions, and selection criteria for this program published elsewhere in this issue of the Federal Register (NFP). Absolute Priority 2 and Competitive Preference Priority 2 are from the notice of final priorities published in the Federal Register on March 9, 2020 (85 FR 13640) (Administrative Priorities).

3. In the Federal Register of January 19, 2021, in FR Doc. 2021-00907, on page 5155, in the second line of the second column, remove the number “10” and add in its place the number “7.”

4. In the Federal Register of January 19, 2021, in FR Doc. 2021-00907, on page 5155, in the second column:

(1) Remove the heading “Competitive Preference Priority 2—Spurring Investment in Qualified Opportunity Zones (0 to 3 points)” and the two paragraphs that follow the heading.

(2) In the heading “Competitive Preference 3,” remove the number “3” and add, in its place, the number “2.”

(3) In the heading “Competitive Preference 4,” remove the number “4” and add, in its place, the number “3.”

5. In the Federal Register of January 19, 2021, in FR Doc. 2021-00907, on page 5159, in the second column, at the end of the first paragraph, remove “(g) The Opportunity Zones NFP.”

Mark Washington,
Deputy Assistant Secretary, Office of Elementary and Secondary Education.

[FR Doc. 2021-04493 Filed 3-3-21; 8:45 am]

BILLING CODE 4000-01-P